FEDERAL COMMUNICATIONS COMMISSION

47 CFR Part 79

[MB Docket No. 11-154, FCC 12-9]

Closed Captioning of Internet Protocol-Delivered Video Programming: Implementation of the Twenty-First Century Communications and Video Accessibility Act of 2010

AGENCY: Federal Communications Commission.

ACTION: Final rule; announcement of effective date.

SUMMARY: In this document, the Commission announces that the Office of Management and Budget (OMB) has approved, for a period of three years, the information collection associated with the Commission's Report and Order (Order) implementing provisions of the Twenty-First Century Communications and Video Accessibility Act of 2010 related to closed captioning of Internet protocol-delivered video programming and apparatus closed captioning requirements. This notice is consistent with the Order, which stated that the Commission would publish a document in the Federal Register announcing the effective date of those rules.

DATES: 47 CFR 79.4(c)(1)(ii), 79.4(c)(2)(ii) through (iii), 79.4(d)(1) through (4) and (d)(6) through (9), 79.4(e)(1) through (6), and 79.103(b)(3) through (4) published at 77 FR 19480, March 30, 2012 are effective on August 6, 2012.

FOR FURTHER INFORMATION CONTACT: Diana Sokolow, Policy Division, Media Bureau, at (202) 418-2120, or email: diana.sokolow@fcc.gov.

SUPPLEMENTARY INFORMATION: This document announces that, on July 24, 2012, OMB approved, for a period of three years, the information collection requirements relating to the rules and procedures contained in the Commission's Order, FCC 12-9, published at 77 FR 19480, March 30, 2012. The OMB Control Number is 3060-1162. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1162, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on July 24, 2012, for the information collection requirements contained in new rules 47 CFR 79.4(c)(1)(ii), 79.4(c)(2)(ii)-(iii), 79.4(d)(1)-(4) and (6)-(9), 79.4(e)(1)-(6), and 79.103(b)(3)-(4).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1162.

The foregoing notice is required by the Paperwork Reduction Act of 1995, Public Law 104-13, October 1, 1995, and 44 U.S.C. 3507.

The total annual reporting burdens and costs for the respondents are as follows:

OMB Control Number: 3060-1162.

OMB Approval Date: July 24, 2012.

OMB Expiration Date: July 31, 2015.

Title: Closed Captioning of Video Programming Delivered Using Internet Protocol, and Apparatus Closed Caption Requirements.

Form Number: N/A.

Respondents: Individuals or households; Businesses or other for-profit entities; Not-for-profit institutions.

Number of Respondents and Responses: 1,762 respondents; 4,684 responses.

Estimated Time per Response: 0.084 to 10 hours.

Frequency of Response: One-time and on-occasion reporting requirements; Recordkeeping requirement; Third-party disclosure requirement.

Obligation to Respond: Mandatory; Required to obtain or retain benefits. The statutory authority for this information collection is contained in the Twenty-First Century Communications and Video Accessibility Act of 2010, Public Law 111-260, 124 Stat. 2751, and Sections 4(i), 4(j), 303, 330(b), 713, and 716 of the Communications Act of 1934, as amended, 47 U.S.C. 154(i), 154(j), 303, 330(b), 613, and 617.

Total Annual Burden: 11,685 hours.

Total Annual Cost: $ 307,800.

Nature and Extent of Confidentiality: Some assurances of confidentiality are being provided to the respondents.

Parties filing petitions for exemption based on economic burden, requests for Commission determinations of technical feasibility and achievability, requests for purpose-based waivers, or responses to complaints alleging violations of the Commission's rules may seek confidential treatment of information they provide pursuant to the Commission's existing confidentiality rules. See 47 CFR 0.459.

The Commission is not requesting that individuals who file complaints alleging violations of the Commission's rules (complainants) submit confidential information (e.g., credit card numbers, social security numbers, or personal financial information) to the Commission. The Commission requests that complainants submit their names, addresses, and other contact information, which Commission staff needs to process complaints. Any use of this information is covered under the routine uses listed in the Commission's SORN, FCC/CGB-1, “Informal Complaints and Inquiries.”

The PIA that the FCC completed on June 28, 2007 gives a full and complete explanation of how the FCC collects, stores, maintains, safeguards, and destroys PII, as required by OMB regulations and the Privacy Act, 5 U.S.C. 552a. The PIA may be viewed at: <http://www.fcc.gov/omd/privacyact/Privacy_Impact_Assessment.html>.

Also, the Commission will prepare a revision to the SORN and PIA to cover the PII collected related to this information collection, as required by OMB's Memorandum M-03-22 (September 26, 2003) and by the Privacy Act, 5 U.S.C. 552a.

Privacy Act Impact Assessment: Yes. The Privacy Impact Assessment (PIA) was completed on June 28, 2007. It may be reviewed at: <http://www.fcc.gov/omd/privacyact/Privacy_Impact_Assessment.html>. The Commission is in the process of updating the PIA to incorporate various revisions made to the SORN.

Needs and Uses: On January 13, 2012, in document FCC 12-9, the Commission released a Report and Order adopting final rules—containing information collection requirements—to implement sections 303, 330(b), and 713 of the Communications Act of 1934 (the Act), as amended by the “Twenty-First Century Communications and Video Accessibility Act of 2010” (CVAA). See Public Law. 111-260, §§ 202 and 203. The Commission also released an Erratum thereto on January 30, 2012. Pursuant to Section 202 of the CVAA, the Order adopted rules governing the closed captioning requirements for the owners, providers, and distributors of video programming delivered using Internet protocol (IP). Pursuant to Section 203 of the CVAA, the Order adopted rules governing the closed captioning capabilities of certain apparatus on which consumers view video programming.

Federal Communications Commission.
Bulah P. Wheeler,
Deputy Manager, Office of the Secretary, Office of Managing Director.

[FR Doc. 2012-19067 Filed 8-3-12; 8:45 am]

BILLING CODE 6712-01-P